DEPARTMENT OF DEFENSE

Office of the Secretary of Defense

[Docket ID: USAF-2009-0025]

Privacy Act of 1974; System of Records

AGENCY: Department of the Air Force, DoD.

ACTION: Notice to delete a system of records.

SUMMARY: The Department of the Air Force proposes to delete a system of records to its inventory of record systems subject to the Privacy Act of 1974 (5 U.S.C. 552a), as amended.

DATES: The changes will be effective on May 18, 2009 unless comments are received that would result in a contrary determination.

ADDRESSES: Send comments to the Air Force Privacy Act Officer, Office of Warfighting Integration and Chief Information Officer, SAF/XCPPI, 1800 Air Force Pentagon, Suite 220, Washington, DC 20330-1800.

FOR FURTHER INFORMATION CONTACT: Mr. Ben Swilley at (703) 696-6648.

SUPPLEMENTARY INFORMATION: The Department of the Air Force systems of records notices subject to the Privacy Act of 1974 (5 U.S.C. 552a), as amended, have been published in the Federal Register and are available from the address above.

The Department of the Air Force proposes to delete a system of records notice in its inventory of record systems subject to the Privacy Act of 1974 (5 U.S.C. 552a), as amended. The proposed deletion is not within the purview of subsection (r) of the Privacy Act of 1974 (5 U.S.C. 552a), as amended, which requires the submission of a new or altered system report.

Morgan E. Frazier,
Alternate OSD Federal Register Liaison Officer, Department of Defense.

F036 AFPC I

System name:

Airmen Utilization Records System (June 11, 1997, 62 FR 31793).

Reason:

This is a duplicate system that is now merged with F036 AFPC M, Officer Utilization Records System (June 11, 1997, 62 FR 31793). There should be only one system for Utilization Records System.

[FR Doc. E9-8715 Filed 4-15-09; 8:45 am]

BILLING CODE 5001-06-P